DEPARTMENT OF HOMELAND SECURITY

Coast Guard

33 CFR Part 117

[Docket No. USCG-2009-0440]

Drawbridge Operation Regulations; Long Island, New York Inland Waterway From East Rockaway Inlet to Shinnecock Canal, Nassau County, NY, Public Event

AGENCY: Coast Guard, DHS.

ACTION: Notice of temporary deviation from regulations.

SUMMARY: The Commander, First Coast Guard District, has issued a temporary deviation from the regulation governing the operation of the Meadowbrook State Parkway Bridge across Sloop Channel, mile 12.8, and the Long Beach Bridge, mile 4.7, across Reynolds Channel, Nassau County, New York. This deviation is necessary to facilitate the Salute to Veterans Fireworks Display. The deviation allows the bridges to remain in the closed position during the Salute to Veterans event to facilitate public safety.

DATES: This deviation is effective from 9:30 p.m. on June 27, 2009 through midnight on June 28, 2009.

ADDRESSES: Documents mentioned in this preamble as being available in the docket are part of docket USCG-2009-0440 and are available online by going to www.regulations.gov, selecting the Advanced Docket Search option on the right side of the screen, inserting USCG-2009-0440 in the docket ID box, pressing Enter, and then clicking on the item in the Docket ID column. This material is also available for inspection or copying at the Docket Management Facility (M-30), U.S. Department of Transportation, West Building Ground Floor, Room W12-140, 1200 New Jersey Avenue SE., Washington, DC, 20590, between 9 a.m. and 5 p.m., Monday through Friday, except Federal holidays.

FOR FURTHER INFORMATION CONTACT: If you have questions on this rule, call or e-mail Ms. Judy Leung-Yee, Project Officer, First Coast Guard District, telephone 212 668-7165, judy.k.leung-yee@uscg.mil. If you have questions on viewing the docket, call Renee V. Wright, Program Manager, Docket Operations, telephone 202-366-9826.

SUPPLEMENTARY INFORMATION: The Town of Hempstead, Department of Public Safety, requested this temporary deviation to facilitate a public event, the Salute to Veterans Fireworks Display. The Meadowbrook State Parkway Bridge, mile 12.8 across the Sloop Channel and the Long Beach Bridge, mile 4.7, across Reynolds Channel must remain in the closed position for two and one half hours to help facilitate public safety during the fireworks event.

The Meadowbrook Parkway Bridge, across Sloop Channel at mile 12.8, at Nassau County, New York, has a vertical clearance in the closed position of 22 feet at mean high water and 25 feet at mean low water. The Long Beach Bridge at mile 4.7 across Reynolds Channel has a vertical clearance of 20 feet at mean high water and 24 feet at mean low water. The drawbridge operation regulations are listed at 33 CFR 117.799.

Under this temporary deviation the Meadowbrook State Parkway Bridge may remain in the closed position from 9:30 p.m. through midnight and the Long Beach Bridge may remain in the closed position from 10 p.m. to midnight on June 27, 2009, with a rain date of June 28, 2009. Vessels that can pass under the draw in the closed position may do so at all times.

In accordance with 33 CFR 117.35(e), the bridge must return to its regular operating schedule immediately at the end of the designated time period. This deviation from the operating regulations is authorized under 33 CFR 117.35.

Dated: June 3, 2009.
Gary Kassof,
Bridge Program Manager, First Coast Guard District.

[FR Doc. E9-14768 Filed 6-23-09; 8:45 am]

BILLING CODE 4910-15-P